DEPARTMENT OF ENERGY

[FE Docket Nos. 01-09-NG, 01-10-NG, 01-08-NG, 01-11-LNG, 97-20-NG, and 00-06-NG]

Office of Fossil Energy; Progas U.S.A., Inc., et al.; Orders Granting, Transferring and Vacating Authority To Import and Export Natural Gas, Including Liquefied Natural Gas, Sempra Energy Solutions, Southern California Gas Company, Mirant Americas Energy Marketing, L.P., Enron North America Corp., Calpine Energy Services, L.P. (Successor to Calpine East Fuels LLC)

AGENCY: Office of Fossil Energy, DOE.

ACTION: Notice of orders.

SUMMARY: The Office of Fossil Energy (FE) of the Department of Energy gives notice that during March 2001, it issued Orders granting, transferring and vacating authority to import and export natural gas, including liquefied natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on April 5, 2001.
Clifford P. Tomaszewski,
Manager, Natural Gas Regulation, Office of Natural Gas & Petroleum Import & Export Activities, Office of Fossil Energy.

Attachment

Appendix—Orders Granting, Transferring and Vacating Import/Export Authorizations
DOE/FE Authority
Order No. | Date issued | Importer/Exporter FE Docket No. | Import Volume | Export Volume | Comments
1671 | 03-09-01 | ProGas U.S.A., Inc., 01-09-NG | 800 Bcf | 200 Bcf | Import and export natural gas from and to Canada beginning on April 1, 2001, and extending through March 31, 2003.
1672 | 03-13-01 | Sempra Energy Solutions, 01-10-NG | 100 Bcf |  | Import from Canada beginning on April 15, 2001, and extending through April 14, 2003.
1673 | 03-15-01 | Southern California Gas Company, 01-08-NG | 40 Bcf |  | Import from Canada beginning on April 15, 2001, and extending through April 14, 2003.
1674 | 03-15-01 | Mirant Americas Energy Marketing, L.P., 01-11-LNG | 100 Bcf |  | Import from various international sources over a two year term beginning on the date of first delivery.
1260-B | 03-22-01 | Enron North America Corp., 97-20-NG |  |  | Vacation of long-term import authority.
1567-A | 03-23-01 | Calpine Energy Services, L.P. (Successor to Calpine East Fuels LLC), 00-06-NG |  |  | Transfer of blanket import and export authority to affiliate and an increase in volumes for the duration of the authority.

[FR Doc. 01-9165 Filed 4-12-01; 8:45 am]

BILLING CODE 6450-01-P